DEPARTMENT OF THE TREASURY

Internal Revenue Service

26 CFR Part 1

[TD 9614]

RIN 1545-AM97

Certain Outbound Property Transfers by Domestic Corporations; Certain Stock Distributions by Domestic Corporations; Correction

AGENCY: Internal Revenue Service (IRS), Treasury.

ACTION: Correction to final and temporary regulations.

SUMMARY: This document contains corrections to final and temporary regulations (TD 9614) that were published in the Federal Register on Tuesday, March 19, 2013 (78 FR 17024). The final and temporary regulations apply to transfers of certain property by a domestic corporation to a foreign corporation in certain nonrecognition exchanges, or to distributions of stock of certain foreign corporations by a domestic corporation in certain nonrecognition distributions. The final regulations also establish reporting requirements for property transfers and stock distributions to which the final regulations apply.

DATES: This correction is effective April 19, 2013 and applicable April 18, 2013.

FOR FURTHER INFORMATION CONTACT: Robert B. Williams, (202) 622-3860 (not a toll free number).

SUPPLEMENTARY INFORMATION:

Background

The final and temporary regulations (TD 9614) that are the subject of this correction are under sections 367, 1248, and 6038B of the Internal Revenue Code.

Need for Correction

As published, the final and temporary regulations (TD 9614) contain an error that may prove to be misleading and is in need of clarification.

Correction of Publication

Accordingly, the final and temporary regulations (TD 9614), that are the subject of FR Doc. 2013-05700, is corrected as follows:

On page 17029, column 3, in the preamble, under the paragraph heading “G. Elimination of Coordination Rule Exception in § 1.367(a)-3(d)(2)(vi)(B)(1)(i)”, line 24 from the top of the first full paragraph, the language “or (d)(2)(vi)(b)(1)(ii) are satisfied. The” is corrected to read “or (d)(2)(vi)(B)(1)(ii) are satisfied. The”.

Alvin Hall,
Assistant Director, Legal Processing Division, Associate Chief Counsel (Procedure and Administration).

[FR Doc. 2013-09177 Filed 4-18-13; 8:45 am]

BILLING CODE 4830-01-P